DEPARTMENT OF THE INTERIOR

Bureau of Land Management

[MT-926-08-1910-BJ-5REJ]

Montana: Filing of Plat of Survey

AGENCY: Bureau of Land Management, Montana State Office, Interior.

ACTION: Notice of Filing of Plat of Survey.

SUMMARY: The Bureau of Land Management (BLM) will file the plat of survey of the lands described below in the BLM Montana State Office, Billings, Montana, (30) days from the date of publication in the Federal Register.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Fort Peck Agency, through the Rocky Mountain Regional Director, Bureau of Indian Affairs, and was necessary to determine Trust and Tribal land.

The lands we surveyed are:

Principal Meridian, Montana

T. 26 N., R. 44 E.

The plat, in one sheet, representing the dependent resurvey of a portion of the subdivisional lines, the adjusted original meanders of the left bank of the Missouri River, downstream, through sections 10, 15, and 16, and a portion of the subdivision of sections 15 and 16, and subdivision of section 15, and the survey of portions of the meanders of the present left and right banks of the Missouri River, downstream, through sections 10, 15, and 16, the meanders of the former left bank of a relicted channel of the Missouri River, downstream, through sections 10 and 15, the medial line of a relicted channel of the Missouri River, certain division of accretion lines, and Tract 37, Township 26 North, Range 44 East, Principal Meridian, Montana, was accepted December 7, 2007.

We will place a copy of the plat, in one sheet, and related field notes we described in the open files. They will be available to the public as a matter of information.

If BLM receives a protest against this survey, as shown on this plat, in one sheet, prior to the date of the official filing, we will stay the filing pending our consideration of the protest.

We will not officially file this plat, in one sheet, until the day after we have accepted or dismissed all protests and they have become final, including decisions or appeals.

Dated: January 10, 2008.
Michael T. Birtles,
Chief Cadastral Surveyor, Division of Resources.

[FR Doc. E8-757 Filed 1-16-08; 8:45 am]

BILLING CODE 4310-$$-P